INTERNATIONAL TRADE COMMISSION

[Investigation No. 337-TA-855]

Certain Sintered Rare Earth Magnets, Methods of Making Same and Products Containing Same: Institution of Investigation Pursuant to 19 U.S.C. 1337

AGENCY: U.S. International Trade Commission.

ACTION: Notice.

SUMMARY: Notice is hereby given that a complaint was filed with the U.S. International Trade Commission on August 17, 2012, under section 337 of the Tariff Act of 1930, as amended, 19 U.S.C. 1337, on behalf of Hitachi Metals, Ltd. of Japan and Hitachi Metals North Carolina, Ltd. of China Grove, North Carolina. A letter supplementing the complaint was filed on September 5, 2012. The complaint alleges violations of section 337 based upon the importation into the United States, the sale for importation, and the sale within the United States after importation of certain sintered rare earth magnets, methods of making same and products containing same by reason of infringement of certain claims of U.S. Patent No. 6,461,565 (“the `565 patent”); U.S. Patent No. 6,491,765 (“the `765 patent”); U.S. Patent No. 6,527,874 (“the `874 patent”); and U.S. Patent No. 6,537,385 (“the `385 patent”). The complaint further alleges that an industry in the United States exists or is in the process of being established as required by subsection (a)(2) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing-impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2012).

Scope of Investigation: Having considered the complaint, the U.S. International Trade Commission, on September 14, 2012, Ordered That—

(1) Pursuant to subsection (b) of section 337 of the Tariff Act of 1930, as amended, an investigation be instituted to determine whether there is a violation of subsection (a)(1)(B) of section 337 in the importation into the United States, the sale for importation, or the sale within the United States after importation of certain sintered rare earth magnets, methods of making same and products containing same that infringe one or more of claims 1-11 of the `565 patent; claims 1-4 and 11-16 of the `765 patent; claims 1-7 of the `874 patent; and claims 1-3 and 5-10 of the `385 patent, and whether an industry in the United States exists or is in the process of being established as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(3) For the purpose of the investigation so instituted, the following are hereby named as parties upon which this notice of investigation shall be served:

(a) The complainants are:

Hitachi Metals, Ltd., SEAVANS North Bldg., 2-1, Shibaura 1-chome Minato-ku, Tokyo 105-8614, Japan

Hitachi Metals North Carolina, Ltd., 1 Hitachi Metals Dr., China Grove, NC 28023

(b) The respondents are the following entities alleged to be in violation of section 337, and are the parties upon which the complaint is to be served:

Yantai Zhenghai Magnetic Material Co., Ltd., No. 22, Zhujiang Road, Economic Technology Development Zone, 264006 Yantai, China

Ningbo Jinji Strong Magnetic Material Co., Ltd., 176 South Yanwu Street, Jiangdong District, 315041 Ningbo, China

Earth-Panda Advance Magnetic Material Co., Ltd., Economic and Technology Development Zone, Lujiang County, 231512 Chaohu, China

Skullcandy, Inc., 724 S. El Camino Real, San Clemente, CA 92674

Beats Electronics, LLC, 2220 Colorado Ave., Santa Monica, CA 90404

Monster Cable Products, Inc., 455 Valley Dr., Brisbane, CA 94005

Bose Corp., The Mountain, Framingham, MA 01701

Callaway Golf Co., 2180 Rutherford Rd., Carlsbad, CA 92008

Taylor Made Golf Co., 5545 Fermi Ct., Carlsbad, CA 92008

Adidas America, Inc., 5055 N Greeley Ave., Portland, OR 97217

Milwaukee Electric Tool Corp,. 13135 W. Lisbon Rd., Brookfield, WI 53005

Techtronic Industries Co. Ltd., 24/F, CDW Building, 388 Castle Peak Road, Tsuen Wan, N.T., Hong Kong

DeWALT Industrial Tool Corp., 701 East Joppa Rd. TW425, Towson, MD 21286

Electro-Voice, Inc., 12000 Portland Ave. South, Burnsville, MN 55337

Shure Inc., 5800 West Touhy Ave., Niles, IL 60714-4608

AKG Acoustics GmbH, Lemböckgasse 21-25, A-1230 Vienna, Austria

Harman International Industries, 400 Atlantic Street, Suite 1500, Stamford, CT 06901

Maxon Precision Motors, Inc., 101 Waldron Rd., Fall River, MA 02720

Dr. Fritz Faulhaber GmBH & Co. KG, Daimlerstraβe 23/25, 71101 Schönaich, Germany

Micromo Electronics, Inc., 14881 Evergreen Ave., Clearwater, FL 33762

TELEX Communications, Inc., 12000 Portland Ave., Burnsville, MN 55337

Bosch Security Systems, Inc., 12000 Portland Ave., Burnsville, MN 55337

Electro-Optics Technology, Inc., 5835 Shugart Lane, Traverse City, MI 49684

Nexteer Automotive Corp., 3900 East Holland Rd., Saginaw, MI 48601

Bunting Magnetics Co., 500 S Spencer Rd., Newton, KS 67114-4109

Viona Corp., 16 Dorothy Dr., Syosset, NY 11791

Allstar Magnetics LLC, 6205 NE 63rd St., Vancouver, WA 98661

Dura Magnetics Inc., 5500 Schultz Dr., Sylvania, OH 43560

Integrated Magnetics, Inc., 11248 Playa Ct., Culver City, CA 90230

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 18, 2012.
Lisa R. Barton,
Acting Secretary to the Commission.

[FR Doc. 2012-23325 Filed 9-20-12; 8:45 am]

BILLING CODE 7020-02-P